SECURITIES AND EXCHANGE COMMISSION

[SEC File No. 270-771, OMB Control No. 3235-0752]

Proposed Collection; Comment Request; Extension: Rule 18a-9

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) is soliciting comments on the existing collection of information provided for in Rule 18a-9 (17 CFR 240.18a-9), under the Securities Exchange Act of 1934 (15 U.S.C. 78a et seq.). The Commission plans to submit this existing collection of information to the Office of Management and Budget (“OMB”) for extension and approval.

Rule 18a-9, which is modeled on Exchange Act Rule 17-13, establishes a securities count program for security-based swap dealers not dually registered as a broker-dealer or regulated by a prudential regulator (“stand-alone SBSDs”). Specifically, Rule 18a-9 requires stand-alone SBSDs to examine and count the securities they physically hold, account for the securities that are subject to their control and direction but are not in their physical possession, verify the locations of securities under certain circumstances, and compare the results of the count and verification with their records.

Stand-alone SBSDs are required to perform a securities count each quarter, either as of a date certain or on a cyclical basis. Rule 18a-9 requires stand-alone SBSDs to note any discrepancies between the count and the firm's records, and to record in the firm's record any discrepancies that remain unresolved seven business days after the date of the examination, count, and verification.

The Commission estimates that the total hour burden under Rule 18a-6 is approximately 1,100 hours per year.

Written comments are invited on: (a) whether the proposed collection of information is necessary for the proper performance of the functions of the Commission, including whether the information shall have practical utility; (b) the accuracy of the Commission's estimates of the burden of the proposed collection of information; (c) ways to enhance the quality, utility, and clarity of the information collected; and (d) ways to minimize the burden of the collection of information on respondents, including through the use of automated collection techniques or other forms of information technology. Consideration will be given to comments and suggestions submitted by June 10, 2024.

An agency may not conduct or sponsor, and a person is not required to respond to, a collection of information unless it displays a currently valid OMB control number.

Please direct your written comments to: David Bottom, Director/Chief Information Officer, Securities and Exchange Commission, c/o John Pezzullo, 100 F Street NE, Washington, DC 20549, or send an email to: PRA_Mailbox@sec.gov.

Dated: April 8, 2024.
Sherry R. Haywood,
Assistant Secretary.

[FR Doc. 2024-07695 Filed 4-10-24; 8:45 am]

BILLING CODE 8011-01-P